DEPARTMENT OF ENERGY

Federal Energy Regulatory Commission

Combined Notice of Filings

Take notice that the Commission has received the following Natural Gas Pipeline Rate and Refund Report filings:

Docket Number: PR20-47-000.

Applicants: Public Service Company of Colorado.

Description: Tariff filing per 284.123(b),(e)+(g): Statement of Rates 3.1.2020 to be effective 3/1/2020.

Filed Date: 3/27/2020.

Accession Number: 202003275291.

Comments Due: 5 p.m. ET 4/17/2020.

284.123(g) Protests Due: 5 p.m. ET 5/26/2020.

Docket Numbers: RP20-694-000.

Applicants: Rover Pipeline LLC.

Description: Compliance filing Flow Through of Cash-Out and Penalty Revenues filed on 3-30-20.

Filed Date: 3/30/20.

Accession Number: 20200330-5063.

Comments Due: 5 p.m. ET 4/13/20.

Docket Numbers: RP20-695-000.

Applicants: Midcontinent Express Pipeline LLC.

Description: § 4(d) Rate Filing: Tenaska PALS Negotiated Rate to be effective 4/1/2020.

Filed Date: 3/30/20.

Accession Number: 20200330-5097.

Comments Due: 5 p.m. ET 4/13/20.

Docket Numbers: RP20-696-000.

Applicants: MarkWest Pioneer, L.L.C.

Description: § 4(d) Rate Filing: Amendment to Negotiated Rate Service Agreement to be effective 4/1/2020.

Filed Date: 3/30/20.

Accession Number: 20200330-5119.

Comments Due: 5 p.m. ET 4/13/20.

Docket Numbers: RP20-697-000.

Applicants: Enable Gas Transmission, LLC.

Description: § 4(d) Rate Filing: Negotiated Rate Filing—April 1 2020 City of Winfield 1011266 & Tenaska 1011653 to be effective 4/1/2020.

Filed Date: 3/30/20.

Accession Number: 20200330-5186.

Comments Due: 5 p.m. ET 4/13/20.

Docket Numbers: RP20-698-000.

Applicants: Texas Eastern Transmission, LP.

Description: § 4(d) Rate Filing: EQT to Nextera Perm Releases—NC Agrmts & NRA eff 4.1.2020 to be effective 4/1/2020.

Filed Date: 3/30/20.

Accession Number: 20200330-5204.

Comments Due: 5 p.m. ET 4/13/20.

Docket Numbers: RP20-699-000.

Applicants: Dominion Energy Transmission, Inc.

Description: § 4(d) Rate Filing: DETI—March 30, 2020 MCS Negotiated Rate Agreements to be effective 4/1/2020.

Filed Date: 3/30/20.

Accession Number: 20200330-5222.

Comments Due: 5 p.m. ET 4/13/20.

Docket Numbers: RP20-700-000.

Applicants: NEXUS Gas Transmission, LLC.

Description: § 4(d) Rate Filing: Negotiated Rates—EAP Ohio 860161 Apr 1 Releases to be effective 4/1/2020.

Filed Date: 3/30/20.

Accession Number: 20200330-5226.

Comments Due: 5 p.m. ET 4/13/20.

Docket Numbers: RP20-701-000.

Applicants: Rockies Express Pipeline LLC.

Description: § 4(d) Rate Filing: REX Evaluation of Credit Revisions (GT&C Section 13) to be effective 4/30/2020.

Filed Date: 3/30/20.

Accession Number: 20200330-5240.

Comments Due: 5 p.m. ET 4/13/20.

Docket Numbers: RP20-702-000.

Applicants: Gulf South Pipeline Company, LLC.

Description: § 4(d) Rate Filing: Cap Rel Neg Rate Agmts (Atlanta Gas 8438 releases eff 4-1-20) to be effective 4/1/2020.

Filed Date: 3/30/20.

Accession Number: 20200330-5278.

Comments Due: 5 p.m. ET 4/13/20.

Docket Numbers: RP20-703-000.

Applicants: Gulf South Pipeline Company, LLC.

Description: § 4(d) Rate Filing: Neg Rate Agmt (FPL 48381) to be effective 4/1/2020.

Filed Date: 3/30/20.

Accession Number: 20200330-5280.

Comments Due: 5 p.m. ET 4/13/20.

Docket Numbers: RP20-704-000.

Applicants: Texas Gas Transmission, LLC.

Description: § 4(d) Rate Filing: Amendment to Neg Rate Agmt (TVA 35341 eff 4-1-2020) to be effective 4/1/2020.

Filed Date: 3/30/20.

Accession Number: 20200330-5281.

Comments Due: 5 p.m. ET 4/13/20.

Docket Numbers: RP20-705-000.

Applicants: Rover Pipeline LLC.

Description: § 4(d) Rate Filing: Summary of Negotiated Rate Capacity Release Agreements on 3-30-20 to be effective 4/1/2020.

Filed Date: 3/30/20.

Accession Number: 20200330-5284.

Comments Due: 5 p.m. ET 4/13/20.

Docket Numbers: RP20-706-000.

Applicants: Equitrans, L.P.

Description: Compliance filing Notice Regarding Non-Jurisdictional Gathering Facilities (Zero-Flow Meters).

Filed Date: 3/30/20.

Accession Number: 20200330-5303.

Comments Due: 5 p.m. ET 4/13/20.

Docket Numbers: RP20-707-000.

Applicants: LA Storage, LLC.

Description: § 4(d) Rate Filing: Filing of Negotiated Rate, Conforming IW Agreements 4.1.20 to be effective 4/1/2020.

Filed Date: 3/30/20.

Accession Number: 20200330-5309.

Comments Due: 5 p.m. ET 4/13/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2020.
Nathaniel J. Davis, Sr.,
Deputy Secretary.

[FR Doc. 2020-07256 Filed 4-6-20; 8:45 am]

BILLING CODE 6717-01-P